SECURITIES AND EXCHANGE COMMISSION

[Release No. 34-42758; File No. SR-NYSE-99-48]

Self-Regulatory Organizations; New York Stock Exchange, Inc.; Order Approving Proposed Change To Rescind Exchange Rule 390

May 5, 2000.

Correction

In notice document 00-11682 beginning on page 30175 in the issue of Wednesday, May 10, 2000, make the following correction:

On page 30175, in the second column, after the heading, the date is added to read as set forth above.

[FR Doc. C0-11682 Filed 6-6-00; 8:45 am]

BILLING CODE 1505-01-D

SECURITIES AND EXCHANGE COMMISSION

[File No. 500-1]

In the Matter of Asthma Disease Management, Inc.; Order of Suspension of Trading

May 8, 2000.

Correction

In notice document 00-11798 appearing on page 30154 in the issue of Wednesday, May 10, 2000 make the following correction:

In the third column, after the heading, the date is added to read as set forth above.

[FR Doc. C0-11798 Filed 6-6-00; 8:45 am]

BILLING CODE 1505-01-D

SECURITIES AND EXCHANGE COMMISSION

[Release No. 34-42760; File No. SR-NASD-99-26]

Self-Regulatory Organizations; Notice of Filing of Proposed Rule Change by National Association of Securities Dealers, Inc. Relating to Denial of Access Procedures

May 5, 2000.

Correction

In notice document 00-11807 beginning on page 30460 in the issue of Thursday, May 11, 2000, make the following correction:

On page 30460, in the third column, after the heading, the date is added to read as set forth above.

[FR Doc. C0-11807 Filed 6-6-00; 8:45 am]

BILLING CODE 1505-01-D